DEPARTMENT OF THE INTERIOR

Bureau of Indian Affairs

[145A2100DD.AADD001000.A0E501010.999900]

Renewal of Agency Information Collection for Solicitation of Nominations for the Advisory Board for Exceptional Children

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the Solicitation of Nominations for the Advisory Board for Exceptional Children authorized by OMB Control Number 1076-0179. This information collection expires September 30, 2014.

DATES: Submit comments on or before July 18, 2014.

ADDRESSES: You may submit comments on the information collection Sue Bement, Bureau of Indian Education, 1011 Indian School Road NW., Suite 332, Albuquerque, New Mexico 87104-1088, fax: (505) 563-5281 or email: sue.bement@bie.edu.

FOR FURTHER INFORMATION CONTACT: Sue Bement, telephone: (505) 563-5275.

SUPPLEMENTARY INFORMATION:

I. Abstract

The Bureau of Indian Education (BIE) is seeking renewal for an information collection that would allow it to collect information regarding individuals' qualifications to serve on the Federal advisory committee known as the Advisory Board for Exceptional Children. This information collection requires persons interested in being nominated to serve on the Board to provide information regarding their qualifications. This information collection includes one form.

The Individuals with Disabilities Education Improvement Act (IDEA) of 2004, (20 U.S.C. 1400 et seq.) requires the BIE to establish an Advisory Board on Exceptional Education. See 20 U.S.C. 1411(h)(6). Advisory Board members shall serve staggered terms of two or three years from the date of their appointment. This Board is currently in operation. This information collection allows BIE to better manage the nomination process for future appointments to the Board.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0179.

Title: Solicitation of Nominations for the Advisory Board for Exceptional Children.

Brief Description of Collection: Submission of this information allows BIE to review the qualifications of individuals seeking nomination to the Advisory Board for Exceptional Children under the Individuals with Disabilities Education Improvement Act. The information collection includes a Membership Nomination Form and requests information on the qualifications, experience, and expertise on the education of Indian children with disabilities. A response is required to obtain a benefit.

Type of Review: Extension without change of currently approved collection.

Respondents: Individuals.

Number of Respondents: 30 per year, on average.

Total Number of Responses: 30 per year, on average.

Frequency of Response: Once.

Estimated Time per Response: 1 hour.

Estimated Total Annual Hour Burden: 30 hours.

Estimated Total Annual Non-Hour Dollar Cost: $0.

Dated: May 14, 2014.
John Ashley,
Acting Assistant Director for Information Resources.

[FR Doc. 2014-11532 Filed 5-16-14; 8:45 am]

BILLING CODE 4310-6W-P